ENVIRONMENTAL PROTECTION AGENCY

[FRL-7265-3]

Real-Time Monitoring for Toxicity Caused by Harmful Algal Blooms and Other Water Quality Perturbations; Correction

AGENCY: Environmental Protection Agency.

ACTION: Notice of availability; correction.

SUMMARY: On August 14, 2002, the U.S. Environmental Protection Agency's (EPA) National Center for Environmental Assessment (NCEA) of the Office of Research and Development (ORD) published a notice in the Federal Register (67 FR 53001) announcing the availability of a final report titled, Real-Time Monitoring for Toxicity Caused by Harmful Algal Blooms and Other Water Quality Perturbations (EPA/600/R-01/103). This document corrects a telephone number correction for the National Service Center for Environmental Publications (NSCEP).

FOR FURTHER INFORMATION CONTACT: For further information contact the Technical Information Staff, National Center for Environmental Assessment/Washington Office (8623D), U.S. Environmental Protection Agency, 1200 Pennsylvania Avenue, NW., Washington, DC 20460. Telephone: 202-564-3261; fax: 202-565-0050.

Correction

In the Federal Register of August 14, 2002, in FR Doc. 02-20581, on page 53001, in the first column, correct the Addresses caption to read:

ADDRESSES: The document is available electronically through the NCEA Web site at (www.epa.gov/ncea) under the Publications menus. A limited number of paper copies will be available from EPA's National Service Center for Environmental Publications (NSCEP), P.O. Box 42419, Cincinnati, Ohio 45242; telephone: 1-800-490-9198 or 513-489-8190; facsimile: 513-489-8695. Please provide your name and mailing address and the title and EPA number of the requested publication.

Dated: August 16, 2002.
Art Payne,
Acting Director, National Center for Environmental Assessment.

[FR Doc. 02-21425 Filed 8-20-02; 8:45 am]

BILLING CODE 6560-50-P